DEPARTMENT OF TRANSPORTATION

Federal Aviation Administration

14 CFR Part 39

[Docket No. 2001-NM-183-AD]

RIN 2120-AA64

Airworthiness Directives; McDonnell Douglas DC-8-11, DC-8-12, DC-8-21, DC-8-31, DC-8-32, DC-8-33, DC-8-41, DC-8-42, and DC-8-43 Airplanes; DC-8-50 Series Airplanes; DC-8F-54 and DC-8F-55 Airplanes; DC-8-60 Series Airplanes; DC-8-60F Series Airplanes; DC-8-70 Series Airplanes; and DC-8-70F Series Airplanes; All with Flat Aft Pressure Bulkheads

AGENCY: Federal Aviation Administration, DOT.

ACTION: Notice of proposed rulemaking (NPRM).

SUMMARY: This document proposes the adoption of a new airworthiness directive (AD) that is applicable to certain McDonnell Douglas Model DC-8 airplanes. This proposal would require a one-time inspection of the aft fuselage skin panel at the longeron 28 skin splice for cracks; repair of any cracks detected; and reporting of the findings of the inspection to the manufacturer. This action is necessary to detect and correct cracks in the aft fuselage skin at the longeron 28 skin splice, which could lead to loss of structural integrity of the aft fuselage, resulting in rapid decompression of the airplane. This action is intended to address the identified unsafe condition.

DATES: Comments must be received by November 24, 2003.

ADDRESSES: Submit comments in triplicate to the Federal Aviation Administration (FAA), Transport Airplane Directorate, ANM-114, Attention: Rules Docket No. 2001-NM-183-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-183-AD” in the subject line and need not be submitted in triplicate. Comments sent via the Internet as attached electronic files must be formatted in Microsoft Word 97 for Windows or ASCII text.

FOR FURTHER INFORMATION CONTACT: Jon Mowery, Aeronautical Engineer, Airframe Branch, ANM-120L, FAA, Los Angeles Aircraft Certification Office, 3960 Paramount Boulevard, Lakewood, California 90712-4137; telephone (562) 627-5322; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-183-AD.” The postcard will be date stamped and returned to the commenter.

Availability of NPRMs

Any person may obtain a copy of this NPRM by submitting a request to the FAA, Transport Airplane Directorate, ANM-114, Attention: Rules Docket No. 2001-NM-183-AD, 1601 Lind Avenue, SW., Renton, Washington 98055-4056.

Discussion

The FAA has received a report indicating that a crack has been found in the aft fuselage skin at the longeron 28 skin splice. This crack was found just forward of the aft pressure bulkhead on a McDonnell Douglas Model DC-8-71F airplane, between fuselage stations Y=1704 and Y=1717. Analysis indicated that the crack is due to fatigue and could be a result of multi-site damage. Failure to detect and correct such a crack before it grows to a critical length could lead to loss of structural integrity of the aft fuselage, resulting in rapid decompression of the airplane.

The subject area on Model DC-8-71F airplanes is almost identical to that on the other Model DC-8 airplanes. Therefore, those Model DC-8 airplanes may be subject to the unsafe condition revealed on the Model DC-8-71F airplanes.

Explanation of Relevant Service Information

There is not yet any service information pertaining to the proposed inspection of the aft fuselage skin panel at the longeron 28 skin spice for cracks and the repair of any such cracks. The manufacturer is developing service information which may include repetitive inspections and repairs. However, several methods in the manufacturer's Non-Destructive Testing Standard Practice Manual are referenced in this proposed AD as approved methods of inspection.

Explanation of Requirements of Proposed Rule

Since an unsafe condition has been identified that is likely to exist or develop on other products of this same type design, the proposed AD would require performing a one-time inspection of the aft fuselage skin panel at the longeron 28 skin splice for cracks, repairing any cracks detected, and reporting results of the inspection (both negative and positive) to the manufacturer.

Interim Action

This is considered to be interim action. The manufacturer has advised that it currently is developing a modification that will address the unsafe condition addressed by this AD. Once this modification is developed, approved, and available, the FAA may consider additional rulemaking.

Cost Impact

There are approximately 264 airplanes of the affected design in the worldwide fleet. The FAA estimates that 244 airplanes of U.S. registry would be affected by this proposed AD, that it would take approximately 3 work hours per airplane to accomplish the proposed inspection and reporting of results, and that the average labor rate is $65 per work hour. Based on these figures, the cost impact of the proposed actions on U.S. operators is estimated to be $47,580, or $195 per airplane.

The cost impact figure discussed above is based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

McDonnell Douglas: Docket 2001-NM-183-AD.

Applicability: McDonnell Douglas Model DC-8-11, DC-8-12, DC-8-21, DC-8-31, DC-8-32, DC-8-33, DC-8-41, DC-8-42, and DC-8-43 airplanes; DC-8-51, DC-8-52, DC8-53, and DC-8-55 airplanes; DC-8F-54 and DC-8F-55 airplanes; DC-8-61, DC-8-62, and DC-8-63 airplanes; DC-8-61F, DC-8-62F, and DC-8-63F airplanes; DC-8-71, DC-8-72, and DC-8-73 airplanes; and DC-8-71F, DC-8-72F, and DC-8-73F airplanes; all with flat aft pressure bulkheads; certificated in any category.

Compliance: Required as indicated, unless accomplished previously.

To detect and correct cracks in the aft fuselage skin at the longeron 28 skin splice, which could result in loss of structural integrity of the aft fuselage, resulting in a rapid decompression of the airplane; accomplish the following:

One-time Inspection for Cracks

(a) For airplanes that have accumulated fewer than 24,000 total flight cycles as of the effective date of this AD: Within 2 years after the effective date of this AD or prior to accumulating a total of 24,000 flight cycles, whichever occurs later, perform an inspection of the aft fuselage skin panel having part number (P/N) 5649328-3 along the rivet row common to longeron 28 from the tail joint to the aft pressure bulkhead for cracks, using one of the methods indicated in paragraph (a)(1), (a)(2), or (a)(3) of this AD.

(1) Non-Destructive Testing Standard Practice Manual MDC-93K0393, 06-10-01.001, High Frequency Eddy Current, Procedure 1, scan 48, crack direction Y, calibration N.

(2) Non-Destructive Testing Standard Practice Manual MDC-93K0393, 06-10-03.001, Magnetic-optic/Eddy Current Imager, Procedure 1.

(3) A method approved by the Manager, Los Angeles Aircraft Certification Office (ACO), FAA.

Note 1: The fuselage skin is 0.05 inch thick 7075-TA aluminum, and the fasteners are NAS 1097 DD 6/32-inch diameter with control countersink.

Note 2: The tail joint is at Station 1490 for DC-8-50 series airplanes, at Station 1530 for DC-8-62, DC-8-62F, DC-8-72, and DC-8-72F airplanes, and at Station 1690 for DC-8-63, DC-8-63F, DC-8-71, and DC-8-73 airplanes.

(b) For airplanes that have accumulated 24,000 total flight cycles or more as of the effective date of this AD: Within 1 year after the effective date of this AD or within 1,000 flight cycles after the effective date of this AD, whichever occurs first, perform the inspection required by paragraph (a) of this AD.

(c) If no crack is detected during the one-time inspection required by paragraph (a) or (b) of this AD, as applicable: No further action is required by this AD, other than the reporting of the results of the inspection, as required by paragraph (e) of this AD.

Repair

(d) If any cracks are detected during the one-time inspection required by paragraph (a) or (b) of this AD: Prior to further flight, repair the crack or cracks per a manner approved by the Manager, Los Angeles ACO, FAA.

Reporting of Results

(e) Submit a report of findings (both positive and negative) of the inspection required by paragraph (a) or (b) of this AD to the Manager, Structure/Payloads, Technical and Fleet Support, Service Engineering/Commercial Aviation Services, Boeing Company at the applicable time specified in paragraph (e)(1) or (e)(2) of this AD. The report must include the inspection results, a description of any discrepancies found, the airplane fuselage number, and the total number of landings and flight hours on the airplane. Information collection requirements contained in this AD have been approved by the Office of Management and Budget (OMB) under the provisions of the Paperwork Reduction Act of 1980 (44 U.S.C. 3501 et seq.) and have been assigned OMB Control Number 2120-0056.

(1) For airplanes on which the one-time inspection is accomplished after the effective date of this AD: Submit the report within 10 days after performing the inspection.

(2) For airplanes on which the one-time inspection was accomplished prior to the effective date of this AD: Submit the report within 10 days after the effective date of this AD.

Alternative Methods of Compliance

(f)(1) In accordance with 14 CFR 39.19, the Manager, Los Angeles ACO, FAA, is authorized to approve alternative methods of compliance for this AD.

(2) An AMOC that provides an acceptable level of safety may be used for repair of any cracks detected during the inspection required by paragraph (a) or (b) of this AD, if it is approved by a Boeing Company Designated Engineering Representative (DER) who has been authorized by the Manager, Los Angeles ACO, to make such findings.

Note 3: Information concerning the existence of approved alternative methods of compliance with this AD, if any, may be obtained from the Los Angeles ACO.

Issued in Renton, Washington, on October 2, 2003.
Ali Bahrami,
Acting Manager, Transport Airplane Directorate, Aircraft Certification Service.

[FR Doc. 03-25492 Filed 10-7-03; 8:45 am]

BILLING CODE 4910-13-P